DEPARTMENT OF TRANSPORTATION

Surface Transportation Board

[STB Docket No. AB-980X]

Santa Clara Valley Transportation Authority—Abandonment Exemption—in Santa Clara and Alameda Counties, CA

On August 29, 2005, Santa Clara Valley Transportation Authority (SCVTA), a noncarrier, filed with the Board a petition under 49 U.S.C. 10502 for exemption from the provisions of 49 U.S.C. 10903. SCVTA seeks to abandon all common carrier obligations over a 1.19-mile line of railroad, extending from milepost 16.30 to milepost 17.49 in Santa Clara County, CA (Industrial line), and a 2.77-mile line of railroad, extending from milepost 2.61 near Paseo Padre Drive to milepost 5.38 near Grimmer Boulevard in and near Fremont, Alameda County, CA (Milpitas line).¹ The lines traverse United States Zip Codes 94536, 94538, 94539, 95112, 95116 and 95122.

¹ SCVTA filed a Notice of Exemption to acquire a line of railroad (which encompasses the two lines at issue here) from Union Pacific Railroad Company (UP) in 2002. See Santa Clara Valley Transportation Authority—Acquisition Exemption—Union Pacific Railroad Company, STB Finance Docket No. 34292 (STB served Dec. 26, 2002). SCVTA filed a Motion to Dismiss and Vacate the Notice of Exemption on December 31, 2002, arguing that it acquired only the physical assets of the line, and not UP's common carrier obligation. SCVTA subsequently filed a Notice of Withdrawal of its Motion to Dismiss and Vacate the Notice of Exemption on April 22, 2003.

UP has discontinued its trackage rights and abandoned its freight easements over these lines pursuant to the following exemptions: (1) over the Industrial line, in Union Pacific Railroad Company—Abandonment Exemption—in Santa Clara County, CA, STB Docket No. AB-33 (Sub-No. 221X) (STB served Nov. 26, 2004); and (2) over the Milpitas line, in Union Pacific Railroad Company—Abandonment Exemption—in Alameda County, CA, STB Docket No. AB-33 (Sub-No. 211X) (STB served Nov. 12, 2003).

The lines do not contain federally granted rights-of-way. Any documentation in the possession of SCVTA will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by December 16, 2005.

Any offer of financial assistance (OFA) under 49 CFR 1152.27(b)(2) will be due no later than 10 days after the service of a decision granting the petition for exemption. Each OFA must be accompanied by a $1,200 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 6, 2005. Each trail use request must be accompanied by a $200 filing fee. See 49 CFR 1002.2(f)(27).

All filings in response to this notice must refer to STB Docket No. AB-980X, and must be sent to: (1) Surface Transportation Board, 1925 K Street, NW., Washington, DC 20423-0001; and Charles A. Spitulnik, McLeod, Watkinson & Miller, One Massachusetts Avenue, NW., Suite 800, Washington, DC 20001. Replies to the petition are due on or before October 6, 2005.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: September 12, 2005.
By the Board, David M. Konschnik, Director, Office of Proceedings.
Vernon A. Williams,
Secretary.

[FR Doc. 05-18570 Filed 9-15-05; 8:45 am]

BILLING CODE 4915-01-P